DEPARTMENT OF THE INTERIOR

Bureau of Land Management

[BLM_AK_FRN_MO4500174927]

Notice of Availability of the Ambler Road Final Supplemental Environmental Impact Statement, Alaska

AGENCY: Bureau of Land Management, Interior.

ACTION: Notice of availability.

SUMMARY: In compliance with the National Environmental Policy Act of 1969, as amended (NEPA), and the Federal Land Policy and Management Act of 1976, as amended, the Bureau of Land Management (BLM) announces the availability of a Final Supplemental Environmental Impact Statement (EIS) for the proposed Ambler Road project.

DATES: The BLM will issue a Record of Decision (ROD) for the project no earlier than 30 days from the date the EPA publishes its notice of availability of the Final Supplemental EIS in the Federal Register.

ADDRESSES: To access the Final Supplemental EIS please visit: https://www.blm.gov/AmblerRoadEIS. To request an electronic or paper copy of the Final Supplemental EIS, please reach out to the BLM Alaska State Office, BLM Alaska Public Information Center, 222 West 7th Avenue (First Floor), Anchorage, Alaska 99513; or the Fairbanks District Office, 222 University Avenue, Fairbanks, Alaska 99709.

Documents pertinent to this proposal may be examined online on the BLM ePlanning website at https://www.blm.gov/AmblerRoadEIS.

FOR FURTHER INFORMATION CONTACT: Stacie McIntosh, Ambler Road Supplemental EIS Project Manager, telephone: 907-474-2398; email address: s05mcint@blm.gov.

Individuals in the United States who are deaf, deafblind, hard of hearing, or have a speech disability may dial 711 (TTY, TDD, or TeleBraille) to access telecommunications relay services for contacting Ms. McIntosh. Individuals outside the United States should use the relay services offered within their country to make international calls to the point-of-contact in the United States.

SUPPLEMENTARY INFORMATION: The BLM has prepared the Ambler Road Supplemental EIS in response to an application for an industrial road right-of-way (ROW) in north-central Alaska across Federal public lands and other lands. The area involved lies south of the Brooks Range, north of the Yukon River, west of the Dalton Highway, and east of the Purcell Mountains. The Alaska Industrial Development and Export Authority, a public corporation of the State of Alaska, is the applicant.

The road was initially analyzed in an EIS published in March 2020, and a BLM ROW was approved in a Joint Record of Decision (JROD) issued in July 2020. In May 2022, in two lawsuits challenging the JROD and associated environmental analyses, the U.S. District Court for the District of Alaska (District Court) granted a voluntary remand at the request of the Department of the Interior (DOI) due to, among other things, deficiencies in the BLM's analysis of subsistence impacts under the Alaska National Interest Lands Conservation Act (ANILCA) section 810, and in the consultation with Tribes conducted pursuant to section 106 of the National Historic Preservation Act (NHPA). In the motion for voluntary remand, the DOI committed to address these issues, including the identified legal deficiencies, consider new information about declines in salmon and caribou populations, reconsider the appropriate scope of the area of potential effects for purposes of the NHPA, and supplement the EIS, as appropriate, to more thoroughly assess the impacts and resources identified as areas of concern in the two lawsuits challenging the remanded JROD.

The Final Supplemental EIS analyzes: the No Action Alternative; Alternative A, the applicant's 211 mile-long proposed road alignment beginning at Mile 161 of the Dalton Highway, extending west, and ending at the Ambler River; Alternative B, which starts and ends in the same location as Alternative A but follows a shorter route through Gates of the Arctic National Preserve; and Alternative C, which starts at Mile 59.5 of the Dalton Highway and extends 332 miles northwest, ending at the Ambler River. The BLM has identified the No Action Alternative as its preferred alternative.

Section 810 of ANILCA requires the BLM to evaluate the effects of the alternatives presented in the Supplemental EIS on subsistence uses and needs and to hold public hearings if it finds that any alternative may significantly restrict subsistence uses. The BLM found in the evaluation of subsistence impacts that Alternatives A, B, and C and the cumulative case as analyzed in the Draft Supplemental EIS may significantly restrict subsistence uses in multiple communities. Therefore, the BLM held public hearings on subsistence resources and activities in conjunction with the public meetings on the Draft Supplemental EIS in the vicinity of potentially affected communities. In consideration of public comments received on the Draft Supplemental EIS and at the public hearings, BLM revised the ANILCA Section 810 evaluation, published as Appendix M of the Final Supplemental EIS, but did not change its “may significantly restrict subsistence uses” findings for the identified communities.

The input of Alaska Native Tribes and Corporations was of critical importance to this Supplemental EIS. Therefore, during the NEPA process, the BLM consulted with potentially affected federally recognized Tribes on a government-to-government basis and with affected Alaska Native Corporations in accordance with Executive Order 13175, as well as Pub. L. 108-199, Div. H, sec. 161, 118 Stat. 452, as amended by Pub. L. 108-447, Div. H, sec. 518, 118 Stat. 3267, and other Department and Bureau policies.

Authority: 40 CFR 1506.6(b).

Steven M. Cohn,
State Director, Alaska.

[FR Doc. 2024-08965 Filed 4-25-24; 8:45 am]

BILLING CODE 4331-10-P